FEDERAL COMMUNICATIONS COMMISSION

[OMB 3060-XXXX; FR ID 159828]

Information Collection Being Submitted for Review and Approval to Office of Management and Budget

AGENCY: Federal Communications Commission.

ACTION: Notice and request for comments.

SUMMARY: As part of its continuing effort to reduce paperwork burdens, as required by the Paperwork Reduction Act (PRA) of 1995, the Federal Communications Commission (FCC or the Commission) invites the general public and other Federal Agencies to take this opportunity to comment on the following information collection. Pursuant to the Small Business Paperwork Relief Act of 2002, the FCC seeks specific comment on how it might “further reduce the information collection burden for small business concerns with fewer than 25 employees.” The Commission may not conduct or sponsor a collection of information unless it displays a currently valid Office of Management and Budget (OMB) control number. No person shall be subject to any penalty for failing to comply with a collection of information subject to the PRA that does not display a valid OMB control number.

DATES: Written comments and recommendations for the proposed information collection should be submitted on or before August 31, 2023.

ADDRESSES: Comments should be sent to www.reginfo.gov/public/do/PRAMain. Find this particular information collection by selecting “Currently under 30-day Review—Open for Public Comments” or by using the search function. Your comment must be submitted into www.reginfo.gov per the above instructions for it to be considered. In addition to submitting in www.reginfo.gov also send a copy of your comment on the proposed information collection to Nicole Ongele, FCC, via email to PRA@fcc.gov and to Nicole.Ongele@fcc.gov. Include in the comments the OMB control number as shown in the SUPPLEMENTARY INFORMATION below.

FOR FURTHER INFORMATION CONTACT: For additional information or copies of the information collection, contact Nicole Ongele at (202) 418-2991. To view a copy of this information collection request (ICR) submitted to OMB: (1) go to the web page http://www.reginfo.gov/public/do/PRAMain, (2) look for the section of the web page called “Currently Under Review,” (3) click on the downward-pointing arrow in the “Select Agency” box below the “Currently Under Review” heading, (4) select “Federal Communications Commission” from the list of agencies presented in the “Select Agency” box, (5) click the “Submit” button to the right of the “Select Agency” box, (6) when the list of FCC ICRs currently under review appears, look for the Title of this ICR and then click on the ICR Reference Number. A copy of the FCC submission to OMB will be displayed.

SUPPLEMENTARY INFORMATION: As part of its continuing effort to reduce paperwork burdens, as required by the Paperwork Reduction Act (PRA) of 1995 (44 U.S.C. 3501-3520), the FCC invited the general public and other Federal Agencies to take this opportunity to comment on the following information collection. Comments are requested concerning: (a) Whether the proposed collection of information is necessary for the proper performance of the functions of the Commission, including whether the information shall have practical utility; (b) the accuracy of the Commission's burden estimates; (c) ways to enhance the quality, utility, and clarity of the information collected; and (d) ways to minimize the burden of the collection of information on the respondents, including the use of automated collection techniques or other forms of information technology. Pursuant to the Small Business Paperwork Relief Act of 2002, Public Law 107-198, see 44 U.S.C. 3506(c)(4), the FCC seeks specific comment on how it might “further reduce the information collection burden for small business concerns with fewer than 25 employees.”

OMB Control Number: 3060-XXXX.

Title: Incarcerated People's Communications Services (IPCS), 2023 Mandatory Data Collection, WC Docket Nos. 23-62, 12-375, DA 23-638.

Form Number(s): FCC Form 2303(a) and FCC Form 2303(b).

Type of Review: New collection.

Respondents: Business or other for-profit.

Number of Respondents and Responses: 30 respondents; 30 responses.

Estimated Time per Response: 265 hours.

Frequency of Response: One-time reporting requirement.

Obligation to Respond: Required to obtain or retain benefits. Statutory authority for this collection of information is contained in sections 1, 2, 4(i)-4(j), 5(c), 201(b), 218, 220, 225, 255, 276, 403, and 716 of the Communications Act of 1934, as amended, 47 U.S.C. 151, 152,154(i)-(j), 155(c), 201(b), 218, 220, 225, 255, 276, 403, and 716.

Total Annual Burden: 7,950 hours.

Total Annual Cost: No cost.

Needs and Uses: On March 17, 2023, the Commission released the Incarcerated People's Communications Services; Implementation of the Martha Wright-Reed Act; Rates for Interstate Inmate Calling Services, WC Docket Nos. 23-62, 12-375, Notice of Proposed Rulemaking and Order, FCC 23-19, 88 FR 20804 (Notice of Proposed Rule Making) and 88 FR 19001 (Order), in which it began the process of implementing the Martha Wright-Reed Just and Reasonable Communications Act of 2022, Public Law 117-338, 136 Stat. 6156 (the Act). The Act expands the Commission's statutory authority to encompass “any audio or video communications service used by inmates . . . regardless of technology used.” The Act also amends section 2(b) of the Communications Act of 1934, as amended, to make clear that the Commission's jurisdiction extends to intrastate as well as interstate and international communications services used by incarcerated people.

The Act directs the Commission to “promulgate any regulations necessary to implement” the statutory provisions, including its mandate that the Commission establish a “compensation plan” ensuring that all rates and charges for IPCS “are just and reasonable,” not earlier than 18 months and not later than 24 months after its January 5, 2023 enactment. The Act also requires the Commission to consider, as part of its implementation, the costs of “necessary” safety and security measures, as well as “differences in costs” based on facility size, or “other characteristics.” It allows the Commission to “use industry-wide average costs of telephone service and advanced communications services and the average costs of service of a communications service provider” in determining just and reasonable rates.

To ensure that it has the data needed to meet its substantive and procedural responsibilities under the Act, the Commission delegated to the Wireline Competition Bureau (WCB) and the Office of Economics and Analytics (OEA) (collectively, WCB and OEA) authority to “update and restructure” the Commission's latest mandatory data collection, the Third Mandatory Data Collection (OMB Control No. 3060-1300, Inmate Calling Services (ICS) 2022 One-Time Mandatory Data Collection), “as appropriate in light of the requirements of the new statute.” This delegation requires WCB and OEA to collect “data on all incarcerated people's communications services from all providers of those services now subject to” the Commission's expanded ratemaking authority, including, but not limited to, requesting “more recent data for additional years not covered by the most recent data collection.”

Pursuant to their delegated authority, WCB and OEA drafted proposed instructions, a template, and a certification form for the proposed 2023 Mandatory Data Collection. See 2023 IPCS Mandatory Data Collection—Proposed Instructions, available for download at: https://www.fcc.gov/document/2023-ipcs-mandatory-data-collection-proposed-instructions. Under WCB and OEA's proposals, IPCS providers would be required to submit the required data using a reporting template that would be filed through the Commission's electronic comment filing system (ECFS). The proposed template included a Word document (Appendix A to the instructions) for responses requiring narrative information and Excel spreadsheets (Appendix B to the instructions) for responses that require specific numbers or information. IPCS providers would also be required to submit an audited financial statement or report for 2022, and a signed certification of truthfulness, accuracy, and completeness. The proposed instructions, template, and certification form would simplify compliance with, and reduce the burden of, this data collection.

On April 28, 2023, WCB and OEA released the 2023 IPCS Public Notice seeking comment on all aspects of the proposed instructions, template, and certification form. See 2023 IPCS Mandatory Data Collection Public Notice, WC Docket Nos. 23-62, 12-375, DA 23-355 (WCB/OEA Apr. 28, 2023), 88 FR 27850 (May 3, 2023). After considering the comments and reply comments filed in response to the Public Notice and the 60-Day Notice, WCB and OEA released an Order on July 26, 2023, adopting the Mandatory Data Collection, and issuing the related instructions, template, and certification form. See 2023 IPCS Mandatory Data Collection Order, WC Docket Nos. 23-62, 12-375, DA 23-638 (WCB/OEA July 26, 2023), available at https://www.fcc.gov/document/2023-ipcs-mandatory-data-collection-order. This Order largely implements the proposals set forth in the Public Notice, with refinements and reevaluations responsive to record comments. Under the Order, IPCS providers will be required to submit data using a reporting template to be filed through ECFS in accordance with the instructions adopted by WCB and OEA, available for download at: https://www.fcc.gov/document/2023-ipcs-mdc-instructions. The template consists of a Word document (Appendix A to the instructions) for responses requiring narrative information, and Excel spreadsheets (Appendix B to instructions) for responses that require specific numbers and information. IPCS providers would also be required to submit an audited financial statement or report for 2022, and a signed certification of truthfulness, accuracy, and completeness. These documents will be submitted for approval by the Office of Management and Budget as FCC Form 2303(a) and FCC Form 2303(b).

Federal Communications Commission.
Katura Jackson,
Federal Register Liaison Officer.

[FR Doc. 2023-16309 Filed 7-31-23; 8:45 am]

BILLING CODE 6712-01-P